SMALL BUSINESS ADMINISTRATION

[Declaration of Disaster #3578; Amdt. #1]

State of Iowa

In accordance with a notice received from the Department of Homeland Security—Federal Emergency Management Agency, effective June 2, 2004, the above numbered declaration is hereby amended to include Adair, Adams, Allamakee, Audubon, Benton, Black Hawk, Boone, Buena Vista, Calhoun, Cedar, Chickasaw, Clay, Clinton, Dallas, Dubuque, Floyd, Franklin, Greene, Grundy, Guthrie, Hardin, Howard, Iowa, Jackson, Jasper, Johnson, Kossuth, Madison, Marshall, Montgomery, Palo Alto, Polk, Pottawattamie, Poweshiek, Sac, Shelby, Story, Tama, Warren, Webster, Winnebago, Winneshiek, Worth and Wright Counties as disaster areas due to damages caused by severe storms, tornadoes, and flooding occurring on May 19, 2004, and continuing.

In addition, applications for economic injury loans from small businesses located in the contiguous counties of Carroll, Cherokee, Clarke, Crawford, Dickinson, Emmet, Fremont, Hamilton, Harrison, Ida, Keokuk, Louisa, Lucas, Mahaska, Marion, Mills, Muscatine, O'Brien, Osceola, Page, Ringgold, Scott, Taylor, Union and Washington in the State of Iowa; Carroll, Jo Daviess, Rock Island, and Whiteside in the State of Illinois; Faribault, Fillmore, Freeborn, Houston, and Martin Counties in the State of Minnesota; Douglas, Sarpy, and Washington Counties in the State of Nebraska; and Vernon County in the State of Wisconsin may be filed until the specified date at the previously designated location. All other counties contiguous to the above named primary counties have been previously declared.

The number assigned to this disaster for economic injury is 9ZG600 for Illinois; and 9ZG700 for Nebraska.

All other information remains the same, i.e., the deadline for filing applications for physical damage is July 26, 2004, and for economic injury the deadline is February 25, 2005.

(Catalog of Federal Domestic Assistance Program Nos. 59002 and 59008.)
Dated: June 3, 2004.
Herbert L. Mitchell,
Associate Administrator for Disaster Assistance.

[FR Doc. 04-13184 Filed 6-9-04; 8:45 am]

BILLING CODE 8025-01-P